DEPARTMENT OF AGRICULTURE

Forest Service

Lassen National Forest; California; Mineral Forest Recovery Project

AGENCY: Forest Service, USDA.

ACTION: Cancellation of Notice of Intent.

SUMMARY: This notice cancels the Notice of Intent to prepare an Environmental Impact Statement for the Mineral Forest Recovery Project published in the Federal Register on November 29, 2000 (Volume 65, Number 230, pages 71088-71090).

ADDRESSES: Almanor District Ranger, Lassen National Forest, P.O. Box 767, Chester, CA, 96020.

FOR FURTHER INFORMATION CONTACT: Dominic Cesmat, telephone: (530) 258-2141.

SUPPLEMENTARY INFORMATION: The Notice of Intent to prepare an Environmental Impact Statement for the Mineral Forest Recovery Project is cancelled because land management direction for the project area has changed substantially from project inception such that the alternatives that were analyzed in the Draft Environmental Impact Statement (DEIS) are either invalid, or would result in ineffective fuel treatments for the project area. A Notice of Availability for a DEIS for this project was published in the Federal Register on August 3, 2001 (Volume 66, Number 150, pages 40697-40698). No further work will be completed on this project, and therefore a Final Environmental Impact Statement for this project will not be forthcoming.

Dated: April 29, 2003.
Jack T. Walton,
Acting Forest Supervisor.

[FR Doc. 03-11257 Filed 5-6-03; 8:45 am]

BILLING CODE 3410-11-M